DEPARTMENT OF AGRICULTURE

Food and Nutrition Service

Agency Information Collection Activities: Special Supplemental Nutrition Program for Women, Infants and Children (WIC) Proposed Collection; Comment Request—Monitoring Trends in the Public Health Workforce Survey

AGENCY: Food and Nutrition Service, USDA.

ACTION: Notice.

SUMMARY: In accordance with the Paperwork Reduction Act of 1995, the Food and Nutrition Service (FNS) is publishing for public comment a summary of a proposed information collection. FNS wishes to monitor trends in education and training, work experience, areas of practice, and training needs of the public health and community nutrition workforce at the State and local government levels. A descriptive profile will assist FNS to determine the extent to which the current and future workforce has the necessary training to administer the WIC Program, for which FNS is responsible.

DATES: Comments on this notice must be received by December 12, 2005 to be assured of consideration.

ADDRESSES: Send comments and requests for copies of this proposed collection of information to Patricia N. Daniels, Director, Supplemental Food Programs Division; Food and Nutrition Service; 3101 Park Center Drive; Room 528; Alexandria, VA 22302-1500. Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. All responses to this notice will be summarized and included in the request for OMB clearance. All comments will thus become public documents.

FOR FURTHER INFORMATION CONTACT: Debra Whitford, Chief, Policy and Program Development Branch, Supplemental Food Programs Division, Food and Nutrition Service, Department of Agriculture, (703) 305-2746.

SUPPLEMENTARY INFORMATION:

Title: Monitoring Trends in the Public Health Nutrition Workforce.

OMB Number: Not yet assigned.

Expiration Date: N/A.

Type of Request: New collection of information.

Abstract: The Department of Agriculture's (USDA) Food and Nutrition Service (FNS) wishes to obtain information to assess the agency's efforts to recruit and retain public health and community nutritionists to staff the WIC Program. Goal 2, Objective 2.2 of the USDA/FNS Corporate Priorities focuses on improving agency support for Program management. This priority addresses management of human capital to ensure a high quality workforce and work environment that attracts and retains employees. Since 1992, FNS has been involved in an initiative targeted at assisting WIC State and local agencies in recruiting and retaining qualified nutrition staff. Recruitment and retention of qualified staff is essential to maintaining quality nutrition services by providing an environment where staff are appropriately selected, trained, and supported. Opportunities for ongoing training, job advancement, challenging duties, and competitive salaries are important considerations in recruiting and retaining qualified nutrition staff. Workforce profile data are essential to evaluate the impact of the agency's effort to recruit and retain public health and community nutritionists. State nutrition directors use descriptive information about the community nutrition workforce in their respective States to support recruitment and retention efforts, design training programs, and advise on licensure and certification policy. According to the findings from previous workforce surveys conducted by the Association of State and Territorial Public Health Nutrition Directors, 90 percent of the public health and community nutrition workforce is employed in WIC Programs.

This survey will be implemented as a Web-based survey to expedite the survey and data collection and analysis process. In addition to the Web-based version, a paper version of the questionnaire will be available for those respondents who do not have Internet access.

This data collection will be carried out by State public health nutrition directors through their professional association—the Association of State and Territorial Public Health Nutrition Directors (ASTPHND), and will result in a national profile of the public health and community nutrition workforce. State nutrition directors will be responsible for coordinating data collection within their respective State including identifying appropriate respondents, assigning unique identifiers, distributing the Web site URL and/or paper version of the questionnaire, providing technical assistance to respondents on how to complete the web-or paper version of the questionnaire, answering any questions from respondents, providing follow-up to non-respondents, and assisting in editing data as needed. ASTPHND has conducted five previous surveys of the public health and community nutrition workforce and the State nutrition directors have performed a similar function in the previous surveys.

Estimate of Burden: Public reporting burden for this collection of information is estimated to average 20 hours per State nutrition director. Per individual respondent, the average estimated burden is 20.6 minutes for those who are completing the Web-based questionnaire and 25.1 minutes for those completing the written, fixed-response version (print version) of the questionnaire.

Respondents: There are two classes or levels of respondents: (1) The designated State and territorial public health nutrition directors and (2) persons employed in public health nutrition programs within States, including persons employed by Inter-Tribal Organizations.

Estimated Number of Respondents: Fifty-five State and territorial public health nutrition directors will be surveyed. They will survey approximately 10,000 nutrition workers in their respective States and territories. It is expected that 85 percent of individual respondents will complete the web-based survey (8,500) and 15 percent will complete the paper version (1,500).

Estimated Number of Responses per Respondent: One.

Estimated Total Annual Burden on Respondents: Public reporting burden for this collection of information is estimated to average 20 hours per State or 1,100 hours (calculated at 20 hours by 55 State designees). In addition, the estimated reporting burden for individual respondents using the web-based version is 2,918 hours (calculated at 20.6 minutes per individual with 8,500 respondents) and 627 hours (calculated at 25.1 minutes per individual respondent with 1,500 respondents) for the paper version for a total estimated individual reporting burden of 3,545 hours. The total expected public reporting burden is 4,645 hours.

Dated: October 5, 2005.
Roberto Salazar,
Administrator.

[FR Doc. 05-20515 Filed 10-12-05; 8:45 am]

BILLING CODE 3410-30-P